LEGAL SERVICES CORPORATION

45 CFR Part 1607

Governing Bodies; Correction

AGENCY: Legal Services Corporation.

ACTION: Notice of proposed rulemaking; correction.

SUMMARY: This document corrects the preamble to a proposed rule published in the Federal Register of April 12, 2024, regarding the requirements applicable to Legal Services Corporation (LSC) grant recipients' governing bodies. This correction provides the addresses to which comments on the proposed rule may be sent.

DATES: Comments must be received by LSC by 11:59 p.m. Eastern on Monday, May 13, 2024.

FOR FURTHER INFORMATION CONTACT: Stefanie K. Davis, Deputy General Counsel, Legal Services Corporation, 3333 K Street NW, Washington, DC 20007; (202) 295-1563 (phone), (202) 337-6519 (fax), or sdavis@lsc.gov.

SUPPLEMENTARY INFORMATION:

Correction

In proposed rule FR Doc. 2024-07762, beginning on page 25856 in the issue of April 12, 2024, make the following correction: On page 25856 in the second column, add after the DATES section:

ADDRESSES: You may submit comments by any of the following methods:

• Email: lscrulemaking@lsc.gov. Include “Comments on Revisions to Part 1607” in the subject line of the message.

• Mail: Stefanie K. Davis, Deputy General Counsel, Legal Services Corporation, 3333 K Street NW, Washington, DC 20007, ATTN: Part 1607 Rulemaking.

• Hand Delivery/Courier: Stefanie K. Davis, Deputy General Counsel, Legal Services Corporation, 3333 K Street NW, Washington, DC 20007, ATTN: Part 1607 Rulemaking.

Instructions: Electronic submissions are preferred via email with attachments in Acrobat PDF format. LSC will not consider written comments sent to any other address or received after the end of the comment period.

Dated: April 12, 2024.
Stefanie Davis,
Deputy General Counsel, Legal Services Corporation.

[FR Doc. 2024-08151 Filed 4-16-24; 8:45 am]

BILLING CODE P